DEPARTMENT OF THE INTERIOR

Fish and Wildlife Service

50 CFR Part 17

RIN 1018-AF81

Endangered and Threatened Wildlife and Plants; Proposal To List the Santa Barbara County Distinct Population of the California Tiger Salamander as Endangered

AGENCY: Fish and Wildlife Service, Interior.

ACTION: Proposed rule.

SUMMARY: We, the Fish and Wildlife Service (Service), propose to list the Santa Barbara County Distinct Vertebrate Population Segment of the California tiger salamander, (Ambystoma californiense), as endangered pursuant to the Endangered Species Act (Act) of 1973, as amended (Act). An emergency rule listing the population is published concurrently in this issue of the Federal Register. The Santa Barbara County population segment of the California tiger salamander is endemic to low elevation (typically below 300 meters (1,000 feet)) vernal pools and seasonal ponds and the surrounding grasslands, oak woodlands, and coastal scrub of Santa Barbara County, California, and is imperiled primarily by habitat loss from conversion of natural habitat to intensive agriculture and urban development, habitat fragmentation, and agricultural contaminants.

DATES: Comments from all interested parties must be received by March 20, 2000. Public hearing requests must be received by March 6, 2000.

ADDRESSES: If you wish to comment, you may submit your comments and materials concerning this proposal by any one of several methods.

1. You may submit written comments to Field Supervisor, Ventura Fish and Wildlife Office, 2493 Portola Road, Suite B, Ventura, California, 93003

2. You may send comments by e-mail to sbsalamander@r1.fws.gov. Please submit these comments as an ASCII file and avoid the use of special characters and any form of encryption. Please also include “Attn: [RIN number]” and your name and return address in your e-mail message. If you do not receive a confirmation from the system that we have received your e-mail message, contact us directly by calling our Ventura Fish and Wildlife Office at phone number 805/644-1766.

3. You may hand-deliver comments to our Ventura Fish and Wildlife Office, 2493 Portola Road, Suite B, Ventura, California, 93003.

Comments and materials received, as well as supporting documentation used in the preparation of this proposed rule, will be available for public inspection, by appointment, during normal business hours at the above address. The complete file for this proposed rule is available for inspection, by appointment, during normal business hours at the U.S. Fish and Wildlife Service, Ventura Fish and Wildlife Office, 2493 Portola Road, Suite B, Ventura, California, 93003.

FOR FURTHER INFORMATION CONTACT: Grace McLaughlin or Carl Benz, Ventura Fish and Wildlife Office at the address listed above (telephone: 805/644-1766; facsimile: 805/644-3958).

SUPPLEMENTARY INFORMATION:

Background

For a discussion of biological background information, previous Federal actions, factors affecting the species, critical habitat, and conservation measures available to listed and proposed species, consult the emergency rule for the Santa Barbara County distinct population of the California tiger salamander published concurrently in this issue of the Federal Register.

Public Comments Solicited

We intend that any final action resulting from this proposal be as accurate and as effective as possible. Therefore, we request comments or suggestions from the public, other concerned governmental agencies, the scientific community, industry, or any other interested party concerning this proposed rule. Comments particularly are sought concerning:

(1) Biological, commercial trade, or other relevant data concerning any threat (or lack thereof) to the Santa Barbara County California tiger salamander;

(2) The location of any additional populations of the Santa Barbara County distinct population of California tiger salamanders and the vernal pools and associated upland habitats (including specific vegetation and soil type) used by such populations, and reasons why any habitat should or should not be determined to be critical habitat as provided by section 4 of the Act;

(3) Additional information concerning the range, distribution, and population size of this distinct population; and

(4) Current or planned activities in the subject area and their possible impacts on this distinct population.

Final promulgation of the regulation on the Santa Barbara County California tiger salamander will take into consideration the comments and any additional information received by us. Such communications may lead to a final regulation that differs from this proposal.

The Act provides for one or more public hearings on this proposal, if requested. Requests must be received within 45 days of the date of publication of the proposal in the Federal Register. Such requests must be made in writing and be addressed to the Field Supervisor, Ventura Fish and Wildlife Office (see ADDRESSES section).

National Environmental Policy Act

We have determined that environmental assessments as defined under the authority of the National Environmental Policy Act of 1969, need not be prepared in connection with regulations adopted pursuant to section 4(a) of the Act. We published a notice outlining our reasons for this determination in the Federal Register on October 25, 1983 (48 FR 49244).

Paperwork Reduction Act

This rule does not contain any collections of information that require Office of Management and Budget (OMB) approval under the Paperwork Reduction Act, 44 U.S.C. 3501 et seq. An information collection related to the rule pertaining to permits for endangered and threatened species has OMB approval and is assigned clearance number 1018-0094. This rule does not alter that information collection requirement. For additional information concerning permits and associated requirements for endangered wildlife, see 50 CFR 17.22 and 17.23.

References Cited

A complete list of all references cited in this document, is available upon request from the Ventura Fish and Wildlife Office (see ADDRESSES section).

Author

The primary author of this proposed rule is Grace McLaughlin of the Ventura Fish and Wildlife Office (see ADDRESSES section).

List of Subjects in 50 CFR Part 17

Endangered and threatened species, Exports, Imports, Reporting and recordkeeping requirements, Transportation.

Proposed Regulation Promulgation

For the reasons given in the preamble to the emergency rule listing the Santa Barbara County distinct population of the California tiger salamander as endangered, published concurrently in this issue of the Federal Register, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Amend § 17.11(h) by adding the following, in alphabetical order under AMPHIBIANS, to the List of Endangered and Threatened Wildlife:

§ 17.11 Endangered and threatened wildlife.

(h) * * *

Species: Common name | Species: Scientific name | Historic range | Vertebrate population where endangered or threatened | Status | When listed | Critical habitat | Special rules
Amphibians
* * * * * * *
Salamander, California tiger | Ambystoma californiense | U.S.A. (CA) | U.S.A., (CA—Santa Barbara County) | E |  | NA | NA
* * * * * * *

December 20, 1999.
Jamie Rappaport Clark,
Director, Fish and Wildlife Service.

[FR Doc. 00-1157 Filed 1-18-00; 8:45 am]

BILLING CODE 4310-55-P